DEPARTMENT OF THE INTERIOR

National Park Service

[NPS-WASO-NRNHL-DTS#-26302; PPWOCRADI0, PCU00RP14.R50000]

National Register of Historic Places; Notification of Pending Nominations and Related Actions

AGENCY: National Park Service, Interior.

ACTION: Notice.

SUMMARY: The National Park Service is soliciting comments on the significance of properties nominated before August 18, 2018, for listing or related actions in the National Register of Historic Places.

DATES: Comments should be submitted by September 17, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 18, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Our Lady of Perpetual Help Mission Church, 3817 N Brown Ave., Scottsdale, SG100002979

Stout's Hotel, 133 E Pima St., Gila Bend, SG100002980

Pima County

West University Historic District (Boundary Increase), S side o E 5th St. between N 5th & N 7th Aves., Tucson, BC100002981

GEORGIA

Fulton County

Fort Peace, 87 15th St., Atlanta, SG100002982

IOWA

Clayton County

Farmers' State Bank, 502 Washington St., Volga vicinity, SG100002983

PENNSYLVANIA

Philadelphia County

Carroll, Charles, Public School (Public Schools in Philadelphia, Pennsylvania, 1938-1980 MPS), 2700 E Auburn St., Philadelphia, MP100002986

Stanton, M. Hall, Public School (Public Schools in Philadelphia, Pennsylvania, 1938-1980 MPS), 2539 N 16th St., Philadelphia, MP100002987

York County

Whiteford, Hugh and Elizabeth Ross, House, 306 Broad St., Delta, SG100002988

VIRGINIA

Bath County

Warm Springs and West Warm Springs Historic District, Jct. of US 220 & VA 39, W Warm Springs Dr with adjoining rds., Warm Springs, SG100002991

A request for removal has been made for the following resource:

TEXAS

Sabine County

Toole Building, 202 Main St., Hemphill, OT02001568

Additional documentation has been received for the following resources:

MINNESOTA

Meeker County

Litchfield Commercial Historic District, 134 N Sibley Ave., Litchfield, AD96000192

VERMONT

Rutland County

Hubbardton Battlefield, Address Restricted, Hubbardton vicinity, AD71000059

Nomination submitted by Federal Preservation Officer:

The State Historic Preservation Officer reviewed the following nominations and responded to the Federal Preservation Officer within 45 days of receipt of the nominations and supports listing the property in the National Register of Historic Places.

VIRGINIA

Harrisonburg Independent City

United States Post Office and Court House, 116 N Main St., Harrisonburg (I), SG100002992

Authority: Section 60.13 of 36 CFR part 60.

Dated: August 21, 2018.
Julie H. Ernstein,
Acting Chief, National Register of Historic Places/National Historic Landmarks Program and Deputy Keeper of the National Register of Historic Places.

[FR Doc. 2018-18938 Filed 8-30-18; 8:45 am]

BILLING CODE 4312-52-P